DEPARTMENT OF ENERGY

Federal Energy Regulatory Commission

Combined Notice of Filings #1

Take notice that the Commission received the following electric corporate filings:

Docket Numbers: EC19-49-000.

Applicants: Oklahoma Gas and Electric Company, AES Shady Point, LLC.

Description: Supplement to January 23, 2019 Application for Authorization Under Section 203 of the Federal Power Act, et al. of Oklahoma Gas and Electric Company, et al.

Filed Date: 4/22/19.

Accession Number: 20190422-5189.

Comments Due: 5 p.m. ET 5/2/19.

Take notice that the Commission received the following exempt wholesale generator filings:

Docket Numbers: EG19-93-000.

Applicants: Wilkinson Solar LLC.

Description: Notice of Self-Certification of Exempt Wholesale Generator Status of Wilkinson Solar LLC.

Filed Date: 4/24/19.

Accession Number: 20190424-5101.

Comments Due: 5 p.m. ET 5/15/19.

Take notice that the Commission received the following electric rate filings:

Docket Numbers: ER12-1470-009; ER18-836-002; ER10-1290-009 ER16-1833-005; ER10-3026-008.

Applicants: San Diego Gas & Electric Company, Energia Sierra Juarez U.S., LLC, Energia Sierra Juarez 2 U.S., LLC, Sempra Gas & Power Marketing, LLC, Termoelectria U.S., LLC.

Description: Supplement to December 28, 2018 Updated Market Power Analysis for the Southwest Region of Energia Sierra Juarez U.S., LLC, et al.

Filed Date: 4/23/19.

Accession Number: 20190423-5227.

Comments Due: 5 p.m. ET 5/14/19.

Docket Numbers: ER19-651-001.

Applicants: Midcontinent Independent System Operator, Inc.

Description: Compliance filing: 2019-04-24_Compliance to Resource Availability and Need LMR Testing Filing to be effective 3/31/2019.

Filed Date: 4/24/19.

Accession Number: 20190424-5075.

Comments Due: 5 p.m. ET 5/15/19.

Docket Numbers: ER19-1507-001.

Applicants: Duke Energy Progress, LLC, Duke Energy Florida, LLC, Duke Energy Carolinas, LLC.

Description: Compliance filing: Joint OATT LGIP—Order 845 Compliance Filing (Amendment) to be effective 5/22/2019.

Filed Date: 4/24/19.

Accession Number: 20190424-5155.

Comments Due: 5 p.m. ET 5/15/19.

Docket Numbers: ER19-1651-000.

Applicants: PJM Interconnection, L.L.C.

Description: ALJ Settlement: Settlement in Docket Nos. EL17-64 and EL17-65 and Request for Waiver to be effective N/A.

Filed Date: 4/23/19.

Accession Number: 20190423-5148.

Comments Due: 5 p.m. ET 5/14/19.

Docket Numbers: ER19-1652-000.

Applicants: ITC Midwest LLC, Interstate Power and Light Company.

Description: § 205(d) Rate Filing: Update to O&T Agreement Exhibits and Appendices to be effective 6/24/2019.

Filed Date: 4/24/19.

Accession Number: 20190424-5001.

Comments Due: 5 p.m. ET 5/15/19.

Docket Numbers: ER19-1653-000.

Applicants: American Electric Power Service Corporation, AEP Generation Resources Inc., AES Ohio Generation, LLC.

Description: Petition for Waiver, et al. of American Electric Power Service Corporation, et al.

Filed Date: 4/23/19.

Accession Number: 20190423-5198.

Comments Due: 5 p.m. ET 5/14/19.

Docket Numbers: ER19-1654-000.

Applicants: American Electric Power Service Corporation, AEP Generation Resources Inc.

Description: Petition for Waiver, et al. of American Electric Power Service Corporation, et al.

Filed Date: 4/23/19.

Accession Number: 20190423-5200.

Comments Due: 5 p.m. ET 5/14/19.

Docket Numbers: ER19-1655-000.

Applicants: ITC Midwest LLC.

Description: § 205(d) Rate Filing: Concurrence IPL Amended Exhibits and Attachments (2019) to be effective 6/24/2019.

Filed Date: 4/24/19.

Accession Number: 20190424-5047.

Comments Due: 5 p.m. ET 5/15/19.

Docket Numbers: ER19-1656-000.

Applicants: Wilkinson Solar LLC.

Description: Baseline eTariff Filing: Application for Market-Based Rate Authorization to be effective 6/24/2019.

Filed Date: 4/24/19.

Accession Number: 20190424-5058.

Comments Due: 5 p.m. ET 5/15/19.

Docket Numbers: ER19-1657-000.

Applicants: Duke Energy Indiana, LLC.

Description: Tariff Cancellation: DEI-RS No. 256 Cancellation Filing to be effective 7/1/2019.

Filed Date: 4/24/19.

Accession Number: 20190424-5074.

Comments Due: 5 p.m. ET 5/15/19.

Docket Numbers: ER19-1658-000.

Applicants: Dutch Wind, LLC.

Description: Baseline eTariff Filing: MBR Application to be effective 6/24/2019.

Filed Date: 4/24/19.

Accession Number: 20190424-5076.

Comments Due: 5 p.m. ET 5/15/19.

Docket Numbers: ER19-1659-000.

Applicants: Southwest Power Pool, Inc.

Description: § 205(d) Rate Filing: Attachment AE Clean-Up Filing Effective 20190501 to be effective 5/1/2019.

Filed Date: 4/24/19.

Accession Number: 20190424-5078.

Comments Due: 5 p.m. ET 5/15/19.

Docket Numbers: ER19-1660-000.

Applicants: Mojave 3/4/5 LLC.

Description: Baseline eTariff Filing: MBR Application to be effective 6/24/2019.

Filed Date: 4/24/19.

Accession Number: 20190424-5079.

Comments Due: 5 p.m. ET 5/15/19.

Docket Numbers: ER19-1661-000.

Applicants: Virginia Electric and Power Company, PJM Interconnection, L.L.C.

Description: § 205(d) Rate Filing: Dominion submits revisions to OATT to add a new Attachment M-2 to be effective 1/1/2020.

Filed Date: 4/24/19.

Accession Number: 20190424-5082.

Comments Due: 5 p.m. ET 5/15/19.

Docket Numbers: ER19-1662-000.

Applicants: Mojave 16/17/18 LLC.

Description: Baseline eTariff Filing: MBR Application to be effective 6/24/2019.

Filed Date: 4/24/19.

Accession Number: 20190424-5083.

Comments Due: 5 p.m. ET 5/15/19.

Docket Numbers: ER19-1663-000.

Applicants: PHWD Affiliate LLC.

Description: Baseline eTariff Filing: MBR Application to be effective 6/24/2019.

Filed Date: 4/24/19.

Accession Number: 20190424-5084.

Comments Due: 5 p.m. ET 5/15/19.

Docket Numbers: ER19-1664-000.

Applicants: Refresh Wind, LLC.

Description: Baseline eTariff Filing: MBR Application to be effective 6/24/2019.

Filed Date: 4/24/19.

Accession Number: 20190424-5095.

Comments Due: 5 p.m. ET 5/15/19.

Docket Numbers: ER19-1665-000.

Applicants: Refresh Wind 2, LLC.

Description: Baseline eTariff Filing: MBR Application to be effective 6/24/2019.

Filed Date: 4/24/19.

Accession Number: 20190424-5110.

Comments Due: 5 p.m. ET 5/15/19.

Docket Numbers: ER19-1666-000.

Applicants: Terra-Gen 251 Wind, LLC.

Description: Baseline eTariff Filing: MBR Application to be effective 6/24/2019.

Filed Date: 4/24/19.

Accession Number: 20190424-5130.

Comments Due: 5 p.m. ET 5/15/19.

Docket Numbers: ER19-1667-000.

Applicants: Terra-Gen VG Wind, LLC.

Description: Baseline eTariff Filing: MBR Application to be effective 6/24/2019.

Filed Date: 4/24/19.

Accession Number: 20190424-5153.

Comments Due: 5 p.m. ET 5/15/19.

Take notice that the Commission received the following electric securities filings:

Docket Numbers: ES19-24-000.

Applicants: The Connecticut Light and Power Company.

Description: Application under Section 204 of the Federal Power Act for Authorization to Issue Securities of The Connecticut Light and Power Company.

Filed Date: 4/24/19.

Accession Number: 20190424-5062.

Comments Due: 5 p.m. ET 5/15/19.

Docket Numbers: ES19-25-000.

Applicants: NSTAR Electric Company.

Description: Application under Section 204 of the Federal Power Act for Authorization to Issue Securities of NSTAR Electric Company.

Filed Date: 4/24/19.

Accession Number: 20190424-5066.

Comments Due: 5 p.m. ET 5/15/19.

Take notice that the Commission received the following public utility holding company filings:

Docket Numbers: PH19-10-000.

Applicants: Starwood Energy Group Global, L.L.C.

Description: Starwood Energy Group Global, L.L.C. submits FERC 65-B Notice of Change in Facts of Waiver Notification.

Filed Date: 4/23/19.

Accession Number: 20190423-5229.

Comments Due: 5 p.m. ET 5/14/19.

Take notice that the Commission received the following qualifying facility filings:

Docket Numbers: QF19-953-000; QF19-954-000; QF19-955-000 QF19-956-000.

Applicants: Westford Solar I, LLC, Westford Solar II, LLC, Westford Solar III, LLC, Westford Solar IV, LLC.

Description: Refund Report of Westford Solar I, LLC, et al.

Filed Date: 4/24/19.

Accession Number: 20190424-5067.

Comments Due: 5 p.m. ET 5/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2019.
Nathaniel J. Davis, Sr.,
Deputy Secretary.

[FR Doc. 2019-08679 Filed 4-29-19; 8:45 am]

BILLING CODE 6717-01-P